DEPARTMENT OF HOMELAND SECURITY

[Docket No. DHS-2008-0059]

Solicitation of Proposal Information for Award of Public Contracts

AGENCY: Office of the Chief Procurement Officer, DHS.

ACTION: 60-day notice and request for comments; extension without change of a currently approved collection, 1601-0005.

SUMMARY: The Department of Homeland Security, Office of the Chief Procurement Officer, will submit the following Information Collection Request (ICR) to the Office of Management and Budget (OMB) for review and clearance in accordance with the Paperwork Reduction Act of 1995 (Pub. L. 104-13, 44 U.S.C. Chapter 35).

DATES: Comments are encouraged and will be accepted until February 9, 2015. This process is conducted in accordance with 5 CFR 1320.1.

ADDRESSES: You may submit comments, identified by docket number DHS-2008-0059, by one of the following methods:

• Federal eRulemaking Portal: http://www.regulations.gov. Please follow the instructions for submitting comments.

• Email: dhs.pra@hq.dhs.gov. Please include docket number DHS-2008-0059 in the subject line of the message.

SUPPLEMENTARY INFORMATION: The Department of Homeland Security (DHS) and the Office of the Chief Procurement Officer (OCPO) collect information when inviting firms to submit bids, proposals, and offers for public contracts for supplies and services. The information collection is necessary for compliance with the Homeland Security Acquisition Regulation (HSAR), 48 CFR Chapter 30, and the Small Business Innovative Research (SBIR) and Small Business Technology Transfer (STTR) programs, 15 U.S.C 628.

For solicitations to contract made through a variety of means, whether conducted orally or in writing, contracting officers normally request information from prospective offerors such as pricing information, delivery schedule compliance, and whether the offeror has the resources (both human and financial) to accomplish requirements. Examples of the kinds of information collected can be found in the HSAR in Part 9, Part 19 and Part 47, along with associated solicitation provisions and contract clauses.

Examples where collections of information occur in soliciting for supplies/services include the issuance of draft Requests for Proposal (RFP), Requests for Information (RFI), and Broad Agency Announcements (BAA). The Government generally issues an RFP using the uniform contract format with the intent of awarding a contract to one or more prospective offerors. The RFP can require those interested in making an offer to provide information in the following areas: Schedule (FAR 15.204-2); contract clauses (FAR 15.204-3); list of documents, exhibits and other attachments (FAR 15.204-4) or representations and instructions (15.204-5). Examples of collections under the HSAR include:

3052.209-70 Prohibition on Contracts with Corporate Expatriates

3052.209-72 Organizational Conflict of Interest

3052.209-74 Limitations on Contractors Acting as Lead System Integrators

3052.209-76 Prohibition on Federal Protective Service Guard Services Contracts with Business Concerns Owned, Controlled, or Operated by an Individual Convicted of a Felony

3052.219-72 Evaluation of Prime Contractor Participation in the DHS Mentor-Protégé Program

3052.247-70 F.o.b. Origin Information

The DHS Science and Technology (S&T) Directorate issues BAAs soliciting white papers and proposals from the public. DHS S&T evaluates white papers and proposals received from the public in response to a DHS S&T BAA using the evaluation criteria specified in the BAA through a peer or scientific review process in accordance with FAR 35.016(d). White paper evaluation determines those research ideas that merit submission of a full proposal and proposal evaluation determines those proposals that merit selection for contract award. Unclassified white papers and proposals are typically collected via the DHS S&T BAA secure Web site, while classified white papers and proposals must be submitted via proper classified courier or proper classified mailing procedures as described in the National Industrial Security Program Operating Manual (NSPOM).

Federal agencies with an annual extramural research and development (R&D) budget exceeding $100 million are required to participate in the SBIR Program. Similarly, Federal agencies with an extramural R&D budget exceeding $1 billion are required to participate in the STTR Program.

Federal agencies who participate in the SBIR and STTR programs must collect information from the public to:

(1) Meet their reporting requirements under 15 U.S.C. 638 (b)(7), (g)(8), (i), (j)(1)(E), (j)(3)(C), (l), (o)(10), and (v);

(2) Meet the requirement to maintain both a publicly accessible database of SBIR/STTR award information and a government database of SBIR/STTR award information for SBIR and STTR program evaluation under 15 U.S.C. 638 g(10, (k), (o)(9), and (o)(15); and

(3) Meet requirements for public outreach under 15 U.S.C. 638 (j)(2)(F), (o)(14), and (s).

The prior information collect request for OMB No. 1600-005 was approved through February 28, 2015 by OMB in a Notice of OMB Action.

The information being collected is used by the Government's contracting officers and other acquisition personnel, including technical and legal staffs to determine adequacy of technical and management approach, experience, responsibility, responsiveness, expertise of the firms submitting offers, identification of members of the public (i.e., small businesses) who qualify for, and are interested in participating in, the DHS SBIR Program, facilitate SBIR outreach to the public, and provide the DHS SBIR Program Office necessary and sufficient information to determine that proposals submitted by the public to the DHS SBIR Program meet criteria for consideration under the program.

Failure to collect this information would adversely affect the quality of products and services DHS receives from contractors. Potentially, contracts would be awarded to firms without sufficient experience and expertise, thereby placing the Department's operations in jeopardy. Defective and inadequate contractor deliverables would adversely affect DHS's fulfillment of the mission requirements in all areas. Additionally, the Department would be unsuccessful in identifying small businesses with research and development (R&D) capabilities, which would adversely affect the mission requirements in this area.

Many sources of the requested information use automated word processing systems, databases, and web portal to facilitate preparation of material to be submitted and to post and collect information. It is common place within many of DHS's Components for submissions to be electronic as a result of implementation of e-Government initiatives.

Information technology (i.e., electronic web portal) is used in the collection of information to reduce the data gathering and records management burden. DHS uses a secure Web site which the public can propose SBIR research topics and submit proposals in response to SBIR solicitations. In addition, DHS uses a web portal to review RFIs and register to submit a white paper or proposal in response to a specific BAA. The data collection forms standardize the collection of information that is necessary and sufficient for the DHS SBIR Program Office to meet its requirements under 15 U.S.C. 638.

There has been no change in the information being collected. The reduction in the total annual burden is based on agency estimates. First, the estimate is based on the number of expected contract awards requiring the submission of information has been declining in the last three years.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

AGENCY: Office of the Chief Procurement Officer, DHS.

Title: Solicitation of Proposal Information for Award of Public Contracts.

OMB Number: 1600-0005.

Frequency: Annually.

Affected Public: Private Sector.

Number of Respondents: 13,612.

Estimated Time Per Respondent: 7 hours.

Total Burden Hours: 285,852.

Dated: December 4, 2014.
Carlene C. Ileto,
Executive Director, Enterprise Business Management Office.

[FR Doc. 2014-28886 Filed 12-9-14; 8:45 am]

BILLING CODE 9110-9B-P